DEPARTMENT OF STATE

[Public Notice: 12004]

30-Day Notice of Proposed Information Collection: Application for A, G, or NATO Visa

ACTION: Notice of request for public comment and submission to OMB of proposed collection of information.

SUMMARY: The Department of State has submitted the information collection described below to the Office of Management and Budget (OMB) for approval. In accordance with the Paperwork Reduction Act of 1995, we are requesting comments on this collection from all interested individuals and organizations. The purpose of this Notice is to announce the initiation of a 30-day period for public comment.

DATES: Submit comments up to April 13, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Direct requests for additional information regarding the collection listed in this notice, including requests for copies of the proposed collection instrument and supporting documents, to Andrea Lage, Acting Regulatory Coordinator, who may be reached at PRA_BurdenComments@state.gov or at (202) 485-7586.

SUPPLEMENTARY INFORMATION:

• Title of Information Collection: Application for A, G, or NATO Visa.

• OMB Control Number: 1405-0100.

• Type of Request: Renewal of a currently approved collection.

• Originating Office: Bureau of Consular Affairs, Visa Services (CA/VO).

• Form Number: DS-1648.

• Respondents: Foreign Government Officials.

• Estimated Number of Respondents: 30,000.

• Estimated Number of Responses: 30,000.

• Average Time per Response: 15 minutes.

• Total Estimated Burden Time: 7,500 hours.

• Frequency: Once per application for a A, G, or NATO Visa.

• Obligation to Respond: Required to Obtain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The Department of State uses Form DS-1648 to elicit information from applicants who are applying for an A, G, or NATO visa in the United States, excluding applicants for an A-3, G-5 or NATO-7 visa. Sections 101(a)(15)(A) and (G) of the Immigration and Nationality Act (INA), and Department regulations at 22 CFR 41.25, 41.26, and 41.27, describe the criteria for these nonimmigrant visa classifications.

Methodology

The DS-1648 will be submitted electronically to the Department. The applicant will be instructed to print a confirmation page containing a bar coded record locator, which will be scanned at the time of processing.

Julia M. Stufft,
Deputy Assistant Secretary, Bureau of Consular Affairs, Department of State.

[FR Doc. 2023-05116 Filed 3-13-23; 8:45 am]

BILLING CODE 4710-06-P